DEPARTMENT OF LABOR

Employment and Training Administration

Investigations Regarding Certifications of Eligibility To Apply for Worker Adjustment Assistance and Alternative Trade Adjustment Assistance

Petitions have been filed with the Secretary of Labor under Section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than December 13, 2007.

Interested persons are invited to submit written comments regarding the subject matter of the investigations to the Director, Division of Trade Adjustment Assistance, at the address shown below, not later than December 13, 2007.

The petitions filed in this case are available for inspection at the Office of the Director, Division of Trade Adjustment Assistance, Employment and Training Administration, U.S. Department of Labor, Room C-5311, 200 Constitution Avenue, NW., Washington, DC 20210.

Signed at Washington, DC, this 20th day of November 2007.
Elliott S. Kushner,
Certifying Officer, Division of Trade Adjustment Assistance.

Appendix
[TAA petitions instituted between 11/13/07 and 11/16/07]
TA-W | Subject firm (Petitioners) | Location | Date of institution | Date of petition
62444 | Poirier's Inc. (Comp) | Fall River, MA | 11/13/07 | 11/12/07
62445 | Samsons Manufacturing (Comp) | Waynesboro, GA | 11/13/07 | 11/09/07
62446 | VF Jeanswear Limited Partnership (Comp) | Greensboro, NC | 11/13/07 | 11/12/07
62447 | Georgia Pacific (State) | Logansport, LA | 11/13/07 | 11/09/07
62448 | Integram St. Louis Seating (Comp) | Pacific, MO | 11/13/07 | 11/09/07
62449 | Newburgh Hardwood Co., Inc. (Comp) | Newburgh, IN | 11/13/07 | 11/11/07
62450 | Shape Global Technology (Comp) | Sanford, ME | 11/13/07 | 11/12/07
62451 | Hickory Dyeing and Winding Co., Inc. (Comp) | Hickory, NC | 11/13/07 | 11/09/07
62452 | ITW Powertrain (Wkrs) | Darlington, WI | 11/13/07 | 11/09/07
62453 | Base Corporation (Wkrs) | Enka, NC | 11/14/07 | 10/22/07
62454 | Kimberly-Clark/Ballard Medical Products (Comp) | Pocatello, ID | 11/14/07 | 10/22/07
62455 | Morgan Corporation (Wkrs) | Morgantown, PA | 11/14/07 | 11/08/07
62456 | Springfield Wire, Inc. (Comp) | Springfield, MA | 11/14/07 | 11/09/07
62457 | Only In USA (State) | Los Angeles, CA | 11/14/07 | 11/06/07
62458 | Hutchens Industries, Inc. (State) | Mansfield, MO | 11/14/07 | 11/08/07
62459 | Thermo Pressed Laminates (Comp) | Klamath Falls, OR | 11/14/07 | 11/08/07
62460 | Amweld Building Products (Comp) | Garrettsville, OH | 11/14/07 | 11/02/07
62461 | Universal Tire Mold (Wkrs) | Corinth, MS | 11/14/07 | 11/13/07
62462 | Enhance America of Missouri, Inc. (Wkrs) | Washington, MO | 11/14/07 | 11/08/07
62463 | Franklin Pump Systems, Inc. (State) | Little Rock, AR | 11/14/07 | 11/13/07
62464 | Engineered Plastic Components (Wkrs) | Rantoul, IL | 11/14/07 | 11/02/07
62465 | Hyper Knits Sales, Inc. (Comp) | New York, NY | 11/14/07 | 11/13/07
62466 | B and C Research, Inc. (State) | Barberton, OH | 11/15/07 | 11/14/07
62467 | US Aprons, Inc. (Wkrs) | Sidney, NE | 11/15/07 | 11/14/07
62468 | VWR International (Wkrs) | Bridgeport, NJ | 11/15/07 | 11/14/07
62469 | Springs Global, US, Inc. (Comp) | Lancaster, SC | 11/15/07 | 11/13/07
62470 | BMI Electronics, Inc. (State) | Hardaway, AL | 11/16/07 | 11/15/07
62471 | AGY (UNITE) | Huntingdon, PA | 11/16/07 | 10/29/07
62472 | Corsair Memory (Comp) | Fremont, CA | 11/16/07 | 11/09/07
62473 | Pfizer Global Manufacturing (State) | Croton, CT | 11/16/07 | 11/15/07
62474 | Siemens (State) | Huntsville, AL | 11/16/07 | 11/14/07
62475 | Nutra Max (Comp) | Houston, TX | 11/16/07 | 11/14/07

[FR Doc. E7-23371 Filed 11-30-07; 8:45 am]

BILLING CODE 4510-FN-P